DEPARTMENT OF TRANSPORTATION

Pipeline and Hazardous Materials Safety Administration

[Docket: PHMSA-98-4957]

Request for Public Comments and Office of Management and Budget (OMB) Approval of an Existing Information Collection (2137-0596)

AGENCY: Pipeline and Hazardous Materials Safety Administration (PHMSA), DOT.

ACTION: Notice and request for comments.

SUMMARY: This notice requests public participation in the OMB approval process for the renewal of an existing National Pipeline Mapping System (NPMS) information collection. PHMSA is requesting OMB approval for renewal of this information collection under the Paperwork Reduction Act of 1995 (PRA). With this notice as required by the PRA, PHMSA invites the public to submit comments over the next 60 days on whether the existing information collection is necessary for the proper performance of the functions of the Department.

DATES: Comments must be submitted on or before May 22, 2007.

ADDRESSES: Comments should reference Docket No. PHMSA-98-4957 and may be submitted in the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web Site: http://www.regulations.gov. This site allows the public to enter comments on any Federal Register notice issued by any agency.

Instructions: Identify the docket number, PHMSA-98-4957, at the beginning of your comments. If you mail your comments, send two copies. If you wish to receive confirmation that PHMSA received your comments, include a self-addressed stamped postcard. Internet users may submit comments at http://www.regulations.gov, and may access all comments received by DOT at http://dms.dot.gov by performing a simple search for the docket number.

Note: PHMSA posts all comments without changes or edits to http://dms.dot.gov including any personal information provided.

Privacy Act

Anyone can search the electronic form of all comments received in response to any of our dockets by the name of the individual submitting the comment (or signing the comment, if submitted on behalf of an association, business, labor union, etc.). DOT's complete Privacy Act Statement is published in the Federal Register on April 11, 2000 (65 FR 19477), and on the Web at http://dms.dot.gov.

FOR FURTHER INFORMATION CONTACT: L.E. Herrick at (202) 366-5523, or by e-mail at le.herrick@dot.gov.

SUPPLEMENTARY INFORMATION: Pursuant to § 3506(c)(2)(A) of the PRA, PHMSA is inviting comments on whether the renewal of the existing NPMS information collection is necessary for the proper performance of the functions of the Department. The comments may include (1) Whether the information will have practical utility; (2) the accuracy of the Department's estimate of the burden of the proposed information collections; (3) ways to enhance the quality, utility, and clarity of the information to be collected; and (4) ways to minimize the burden of the collection of information on respondents, including the use of automated collection techniques or other forms of information technology.

Federal pipeline safety law (49 U.S.C. 60132) requires an operator of a pipeline facility (except distribution lines and gathering lines) to submit geospatial data appropriate for use in the Department's NPMS. A complete data submission includes geospatial data, attribute data, metadata, public contact information for all liquefied natural gas, hazardous liquid, and gas transmission pipeline systems operated by a company. The operator must submit information in accordance with guidelines detailed in the NPMS operator standards document. Operators must update their submissions on an annual basis. Currently operators are able to submit data in paper and electronic formats. After September 30, 2007, PHMSA will cease accepting paper submissions. PHMSA is working with the approximately 2.2 percent of operators who submit paper maps to assist them in making the transition to an electronic format. A copy of the standards document is available in the docket.

PHMSA uses the NPMS as a tool to support various regulatory programs, pipeline inspections, and authorized external customers. Periodic updates of operator pipeline data informs the NPMS of any changes to the data over the previous year and allows PHMSA to maintain and improve the accuracy of the information.

As used in this notice, the term “information collection” includes all work related to preparing and disseminating information in accordance with recordkeeping requirements.

Type of Information Collection Request: Renewal of Existing Collection.

Title of Information Collection: National Pipeline Mapping System.

Respondents: 894 pipeline operators mapping 420,117 pipeline miles.

Estimated Total Annual Burden on Respondents: 16,312 hours.

Issued in Washington, DC, on March 19, 2007.
Jeffrey D. Wiese,
Acting Associate Administrator for Pipeline Safety.

[FR Doc. 07-1439 Filed 3-20-07; 1:36 pm]

BILLING CODE 4910-60-P